DEPARTMENT OF ENERGY

[Docket Nos. EA-63-C]

Application to Export Electric Energy; Northern States Power Company

AGENCY: Office of Electricity Delivery and Energy Reliability, DOE.

ACTION: Notice of application.

SUMMARY: Northern States Power Company (NSP) has applied to amend its authorization to transmit electric energy from the United States to Canada pursuant to section 202(e) of the Federal Power Act.

DATES: Comments, protests or requests to intervene must be submitted on or before July 27, 2005.

ADDRESSES: Comments, protests or requests to intervene should be addressed as follows: Office of Electricity Delivery and Energy Reliability (Mail Code OE-20), U.S. Department of Energy, 1000 Independence Avenue, SW., Washington, DC 20585-0350 (FAX 202-586-1472).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On March 6, 1979, the Department of Energy (DOE) issued Presidential Permit PP-63 authorizing NSP to construct, operate, maintain, and connect a 500,000-volt (500-kV) electric transmission line that extends from Roseau County, Minnesota, across the U.S. border with Canada, and connecting to similar facilities owned by Manitoba Hydro Electric Board, the Provincial electric utility of Canada's Province of Manitoba. In a related proceeding, on August 13, 1979, in Order No. EA-63, DOE authorized NSP to export electric energy to Canada using the PP-63 facilities. The Presidential permit and electricity export authorization have each been subsequently amended and NSP is now authorized to export electric energy to Canada, using the PP-63 facilities, at a rate not to exceed an instantaneous rate of transmission of 500 megawatts (MW).

On February 6, 2002, in Order No. PP-231, DOE authorized NSP (doing business as Excel Energy Incorporated (Xcel)) to construct, operate, maintain and connect a 230-kV transmission line that extends approximately 53 miles from a new substation built in Rugby, North Dakota, to the U.S. border with Canada. At the border the PP-231 facilities connect to similar facilities of Manitoba Hydro and continue an additional 50 miles into Canada to an existing substation located in Glenboro, Manitoba. A separate electricity export authorization was not issued in association with this transmission facility.

In OE Docket EA-63-C, NSP has now applied to DOE to further amend Order EA-63 to authorize electricity exports to Canada using a combination of the PP-63 and PP-231 transmission lines, at a maximum transmission rate of 700 MW on a firm (e.g., non-interruptible) basis and at 1050 MW on a non-firm (e.g., as available) basis.

Procedural Matters: Any person desiring to become a party to this proceeding or to be heard by filing comments or protests to these applications should file a petition to intervene, comment or protest at the address provided above in accordance with §§ 385.211 or 385.214 of the FERC's Rules of Practice and Procedures (18 CFR 385.211, 385.214). Fifteen copies of each petition and protest should be filed with the DOE on or before the date listed above.

Comments on the NSP application to export electric energy to Canada should be clearly marked with Docket EA-63-C. Additional copies are to be filed directly with Northern States Power Company, c/o Xcel Energy Inc., Attn: Director, Contract Administration, 1099 18th Street, Suite 3000, Denver, CO 80202 and Northern States Power Company, c/o Xcel Energy Inc., Attn: James P. Johnson, 800 Nicollet Mall, Suite 2900, Minneapolis, MN 55401 and Northern States Power Company, c/o Xcel Energy Inc., Attn: James Alders, 414 Nicollet Mall—5th Floor, Minneapolis, MN 55401 and Northern States Power Company, c/o Xcel Energy Inc., Attn: Thomas R. McDonough, 414 Nicolle Mall—RSQ 5, Minneapolis, MN 55401.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's home page at http://www.fe.doe.gov. Upon reaching the program's home page select “Electricity Regulation”, then “Pending Proceedings” from the options menus.

Issued in Washington, DC, on July 6, 2005.
Anthony J. Como,
Director, Permitting and Siting, Office of Electricity Delivery and Energy Reliability.

[FR Doc. 05-13632 Filed 7-11-05; 8:45 am]

BILLING CODE 6450-01-P